DEPARTMENT OF COMMERCE

National Oceanic and Atmospheric Administration

50 CFR Part 648

[I.D. 042307E]

Mid-Atlantic Fishery Management Council; Public Hearings; Correction

AGENCY: National Marine Fisheries Service (NMFS), National Oceanic and Atmospheric Administration (NOAA), Commerce.

ACTION: Notice of public hearings; correction.

SUMMARY: The Mid-Atlantic Fishery Management Council will hold hearings to allow for public input on Amendment 9 to the Fishery Management Plan for the Atlantic Mackerel, Squid, and Butterfish Fishery (FMP).

DATES: Written comments will be accepted until May 27, 2007. All meetings begin at 7 p.m.

ADDRESSES: Comments may be submitted through any of the following methods:

• Mail: Daniel T. Furlong, Executive Director, Mid-Atlantic Fishery Management Council, Room 2115 Federal Building, 300 South New Street, Dover, Delaware 19904.

• FAX: 302-674-5399.

• E-mail: info@mafmc.org. Please indicate the subject as SMB 9 Comments.

• Federal e-Rulemaking Portal: http://www.regulations.gov.

FOR FURTHER INFORMATION CONTACT: Daniel T. Furlong, Executive Director, Mid-Atlantic Fishery Management Council, Room 2115 Federal Building, 300 South New Street, Dover, Delaware 19904, 302-674-2331, ext. 19.

SUPPLEMENTARY INFORMATION:

Need for Correction

On April 30, 2007, a document announcing public hearings on Amendment 9 to the Fishery Management Plan for Atlantic Mackerel, Squid, and Butterfish Fishery (FMP) was published (FR Doc. E7-8197). That document incorrectly listed the meeting times for the hearings. This document corrects the meeting times see DATES section. All other information remains unchanged and will not be repeated in this correction.

Dated: May 1, 2007.
Tracey Thompson,
Acting Director, Office of Sustainable Fisheries, National Marine Fisheries Service.

[FR Doc. E7-8575 Filed 5-4-07; 8:45 am]

BILLING CODE 3510-22-S